DEPARTMENT OF DEFENSE

Department of the Air Force

United Launch Alliance Industry Day To Inform Industry of the Federal Trade Commission's Consent Order Regarding United Launch Alliance

AGENCY: Department of the Air Force, National Security Space Office (NSSO), DOD.

ACTION: Notice.

SUMMARY: The purpose of the United Launch Alliance (ULA) Industry Day is to inform industry of the Federal Trade Commission's Consent Order regarding ULA and the role of the Compliance Officer to oversee compliance with the Consent Order. The Order is intended to ensure that ULA affords all satellite manufacturers non-discriminatory treatment for launch services and that Lockheed and Boeing, as satellite manufacturers, consider all qualified launch vehicle providers on a non-discriminatory basis. The order also requires firewalls to prevent information from a satellite or other launch vehicle provider from being shared by ULA with its Boeing or Lockheed Martin parent. The role of the Compliance Officer is to oversee compliance with the Consent Order by all three respondents and to investigate any complaint or representation arising in relation to or connected with compliance of this order.

DATES: The United Launch Alliance Industry Day will be on April 5, 2007. Attendance to the ULA Industry Day is limited to two (2) representatives per organization. It is required that all attendees register online (http://www.aero.org/conferences/ula).

ADDRESSES: The meeting location is at The Aerospace Corporation located at 2350 East El Segundo Boulevard, Building A8 Conference Room, El Segundo, California. NSSO welcomes the attendance from members of the general public, but for security reasons all attendees must be United States citizens with a valid photo identification for admission into The Aerospace Corporation facility.

FOR FURTHER INFORMATION CONTACT: Alan L. Adams, 310-336-7476 or DeeDee Madrid, 310-336-7256 or Douglas Brown, 310-416-7704.

SUPPLEMENTARY INFORMATION: The Director of National Security Space Office, Office of the Under Secretary to the Air Force, United States Air Force was appointed as the Compliance Officer for Department of Defense in keeping with a decree issued by the United States District court, District of Columbia. The Anti-Trust Division of the Department of Justice brought suit against Northrop-Grumman Corporation to prevent their merger with TRW, Incorporated because it would substantially reduce competition in production of certain satellites. However, the merger was permitted with the agreement that Northrop-Grumman Corporation would comply with certain prescribed behaviors decreed in the Final Judgment. The Compliance Division was established within NSSO to monitor the Northrop-Grumman Corporation's compliance with the Final Judgment on behalf of the Director, who has contracted with the Aerospace Corporation for much of the administrative support.

Bao-Anh Trinh,
Air Force Federal Register Liaison Officer.

[FR Doc. E7-3771 Filed 3-2-07; 8:45 am]

BILLING CODE 5000-04-P